ENVIRONMENTAL PROTECTION AGENCY

[EPA-HQ-OAR-2008-0264; FRL-8572-8]

Agency Information Collection Activities; Proposed Collection; Comment Request; Protection of Stratospheric Ozone: Recordkeeping and Periodic Reporting of the Production, Import, Recycling, Destruction, Transhipment, and Feedstock Use of Ozone-Depleting Substances (Renewal); EPA ICR No. 1432.29, OMB Control No. 2060-0170

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR, 1432.25, is scheduled to expire on December 31, 2008. Before submitting the ICR to OMB for review and approval, EPA is soliciting comments on specific aspects of the proposed information collection as described below.

DATES: Comments must be submitted on or before July 28, 2008.

ADDRESSES: Submit your comments, identified by Docket ID No. EPA-HQ-OAR-2008-0264 by one of the following methods:

• http://www.regulations.gov: Follow the on-line instructions for submitting comments.

• E-mail: a-and-r-Docket@epa.gov.

• Fax: 202-566-1741.

• Mail: EPA-HQ-OAR-2008-0264, Environmental Protection Agency, Mailcode: 6205J, 1200 Pennsylvania Ave., NW., Washington, DC 20460.

• Hand Delivery: EPA-HQ-OAR-2008-0264, Air and Radiation Docket at EPA West, 1301 Constitution Avenue, NW., Room B108, Mail Code 6102T, Washington, DC 20460. Such deliveries are only accepted during the Docket's normal hours of operation, and special arrangements should be made for deliveries of boxed information.

Instructions: Direct your comments to Docket ID No. EPA-HQ-OAR-2008-0264. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Kirsten Cappel, Stratospheric Protection Division, Office of Atmospheric Programs, (6205J), Environmental Protection Agency, 1200 Pennsylvania Ave., NW., Washington, DC 20460; telephone number: (202) 343-9556; fax number: (202) 343-2338; e-mail address: cappel.kirsten@epa.gov. You may also visit the Ozone Depletion Web site of EPA's Stratospheric Protection Division at http://www.epa.gov/ozone/strathome.html for further information about EPA's Stratospheric Ozone Protection regulations, the science of ozone layer depletion, and related topics.

SUPPLEMENTARY INFORMATION:

How Can I Access the Docket and/or Submit Comments?

EPA has established a public docket for this ICR under Docket ID No. EPA-HQ-OAR-2008-0264, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for Air and Radiation Docket is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider when I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does this Apply to?

Affected entities: Entities potentially affected by this action are producers, importers, and distributors of chlorofluorocarbons and methyl bromide, as well as research institutions using such substances.

Title: Agency Information Collection Activities; Proposed Collection; Comment Request; Protection of Stratospheric Ozone: Recordkeeping and Periodic Reporting of the Production, Import, Recycling, Destruction, Transhipment, and Feedstock Use of Ozone-Depleting Substances (Renewal).

ICR numbers: EPA ICR No. 1432.29, OMB Control No. 2060-0170.

ICR status: EPA ICR 1432.25 is currently scheduled to expire on December 31, 2008. An Agency may not conduct or sponsor, and a person is not required to respond to, a collection of information, unless it displays a currently valid OMB control number. The OMB control numbers for EPA's regulations in Title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA is seeking to renew EPA ICR 1432.25 which authorizes the recordkeeping and reporting requirements established in the regulations stated in 40 CFR part 82, subpart A and as required by the United States' commitments under the international treaty The Montreal Protocol on Substances that Deplete the Ozone Layer (Protocol). This information collection allows EPA to monitor the United States' compliance with the Protocol and Title VI of the Clean Air Act Amendments of 1990 (CAA).

Under its Protocol commitments, the United States is obligated to cease production and import of Class I controlled substances excluding chlorofluorocarbons (CFCs) that are subject to essential use exemptions, methyl bromide that is subject to critical use exemptions or exemptions for quarantine and preshipment uses or emergency uses, previously used material, and material that will be transformed, destroyed, or exported to developing countries. The Protocol also establishes limits and reduction schedules leading to the eventual phaseout of Class II controlled substances with similar exemptions beyond the phaseout. In addition to the Montreal Protocol, the CAA has its own limits on production and consumption of controlled substances that EPA must adhere to and enforce.

Under 40 CFR 82.13, producers, importers, exporters, distributors, and other entities must meet quarterly, annual, and/or transactional recordkeeping and reporting requirements for Class I ozone-depleting substances (ODS). This information collection is conducted to meet U.S. obligations under the Montreal Protocol. The information collection request is required to obtain a benefit under Title VI of the CAA, added by Section 764 of the 1999 Omnibus Consolidated and Emergency Supplemental Appropriations Act (Pub. L. No. 105-277; October 21, 1998).

The reporting and recordkeeping requirements for Class I ODS will enable EPA to:

1. Ensure compliance with the restrictions on production, import, and export of Class I controlled substances;

2. Allow exempted production and import for certain uses and the consequent tracking of that production and import;

3. Address industry and Federal concerns regarding the illegal import of mislabeled used controlled substances;

4. Satisfy the United States' obligations to report data under Article 7 of the Protocol;

5. Fulfill statutory obligations under Section 603(b) of the CAA for reporting and monitoring;

6. Provide information to report to the U.S. Congress on the production, use, and consumption of Class I controlled substances as statutorily required in Section 603(d) of Title VI of the CAA.

The reported data will enable EPA to:

1. Maintain compliance with the Protocol requirements for annual data submission on the production of ODS; and

2. Analyze technical use data to ensure that exemptions are used in accordance with requirements included in the annual authorization rulemakings.

EPA informs respondents that they may assert claims of business confidentiality for any of the information they submit. Information claimed confidential will be treated in accordance with the procedures for handling information claimed as confidential under 40 CFR Part 2, Subpart b, and will be disclosed only if EPA determines that the information is not entitled to confidential treatment. If no claim of confidentiality is asserted when the information is received by EPA, it may be made available to the public without further notice to the respondents (40 CFR 2.203). Individual reporting data may be claimed as sensitive and will be treated as confidential information in accordance with procedures outlined in 40 CFR Part 2.

Burden Statement: The annual public reporting and recordkeeping burden for this collection of information is estimated to average 2.4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

• Estimated total number of potential respondents: 1157.

• Frequency of response:

— Producers, importers, holders of essential use allowances, laboratory suppliers, and distributors of QPS methyl bromide (Class I, Group VI substances) are to report to EPA quarterly (45 days after the end of each quarter);

— Exporters, and persons that destroy and transform Class I controlled ODS are to report to EPA annually (45 days after the end of the control period);

— Persons wanting to trade with another Party to the Protocol, undertake interpollutant conversions, transfer allowances, import used Class I controlled substances (i.e. petition) are to submit reports to EPA on a transactional basis.

— All entities may be required to provide other such information that the Administrator may reasonably require to comply with requests from the Ozone Secretariat seeking information required by decisions taken by the Parties to the Montreal Protocol.

• Estimated total average number of responses for each respondent: 1.6.

• Estimated total annual burden hours: 2810 hours.

• Estimated total annual costs: $269,242. This includes an estimated burden cost of $263,662 and an estimated cost of $5,580 for capital investment or maintenance and operational costs.

Are There Changes in the Estimates from the Last Approval?

There is a decrease of 5,560 hours in the total estimated respondent burden compared with that identified in the EPA ICR 1432.25 which is currently approved by OMB. This large decrease is primarily due to a decrease in the overall burden for compliance, specifically the hours needed to certify laboratory and QPS uses of ozone depleting substances. The prior estimate for self certification was much higher than the Agency's experience has shown it to be. The burden and cost estimates for the Agency increased largely due to increases in the average hourly wage rate caused by normal inflation. As implementation of electronic reporting via the Agency's central data exchange (CDX) expands to additional segments of the regulated community, EPA expects burden and costs to further decline. EPA anticipated that when the CDX system becomes fully utilized, all required data will be submitted and tracked electronically, thus reducing and/or eliminating reporting by paper.

What is the Next Step in the Process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: May 22, 2008.
Drusilla Hufford,
Director, Stratospheric Protection Division.

[FR Doc. E8-11986 Filed 5-28-08; 8:45 am]

BILLING CODE 6560-50-P